DEPARTMENT OF ENERGY

Federal Energy Regulatory Commission

[Docket Nos: CP18-39-000; CP18-40-000]

Questar Southern Trail Pipeline Company, Navajo Tribal Utility Authority; Notice of Intent To Prepare an Environmental Assessment for the Proposed Southern Trail Pipeline Abandonment Project Request for Comments on Environmental Issues

The staff of the Federal Energy Regulatory Commission (FERC or Commission) will prepare an environmental assessment (EA) that will discuss the environmental impacts of the Southern Trail Pipeline Abandonment Project (Project) involving abandonment in place and by sale of facilities by Questar Southern Trail Pipeline Company (Questar). On December 22, 2017, Questar Southern Trails Pipeline Company (Questar), filed an application, in Docket No. CP18-39-000, pursuant to section 7(b) of the Natural Gas Act (NGA) to abandon its certificate of public convenience and necessity, including its blanket certificate authorities. Questar also requests to abandon, part by sale and part in-place, all of its certificated facilities dedicated to providing jurisdictional transportation service including approximately 488 miles of natural gas pipeline and related facilities located in California, Arizona, Utah, and New Mexico.

In a related filing, on December 22, 2017, the Navajo Tribal Utility Authority (NTUA), filed an application, in Docket No. CP18-40-000, pursuant to section 7(f) of the NGA and Part 157 of the Commission's regulations, requesting a service area determination within which NTUA may, without further Commission authorization, enlarge or expand its natural gas distribution facilities and a waiver of all reporting, accounting, and other rules and regulations normally applicable to natural gas companies. NTUA would utilize those acquired facilities to provide its own service, replacing the service historically provided to it by Questar. The remaining facilities not sold to the NTUA would be abandoned in-place.

About 220 miles of pipeline facilities that would be abandoned in place are in San Bernardino County, California; Mohave, Yavapai, Coconino and Apache Counties, Arizona; and San Yuan, Utah. About 268 miles would be abandoned by sale and are in Coconino, Navajo and Apache Counties, Arizona; San Yuan County, Utah; and San Yuan County, New Mexico. The Commission will use this EA in its decision-making process to determine whether the project is in the public convenience and necessity.

This notice announces the opening of the scoping process the Commission will use to gather input from the public and interested agencies on the project. You can make a difference by providing us with your specific comments or concerns about the project. Your comments should focus on the potential environmental effects, reasonable alternatives, and measures to avoid or lessen environmental impacts. Your input will help the Commission staff determine what issues they need to evaluate in the EA. To ensure that your comments are timely and properly recorded, please send your comments so that the Commission receives them in Washington, DC on or before March 5, 2018.

If you sent comments on this project to the Commission before the opening of this docket on December 22, 2017, of the CP filing, you will need to file those comments in Docket No. CP18-39-000 and CP18-40-000 to ensure they are considered as part of this proceeding.

This notice is being sent to the Commission's current environmental mailing list for this project. State and local government representatives should notify their constituents of this proposed project and encourage them to comment on their areas of concern.

If you are a landowner receiving this notice, a pipeline company representative may contact you about the abandonment by sale and in place of the proposed facilities. The company would seek to negotiate a mutually acceptable agreement.

Questar provided landowners with a fact sheet prepared by the FERC entitled “An Interstate Natural Gas Facility On My Land? What Do I Need To Know?” This fact sheet addresses a number of typically asked questions, including how to participate in the Commission's proceedings. It is also available for viewing on the FERC website (www.ferc.gov).

Public Participation

For your convenience, there are three methods you can use to submit your comments to the Commission. The Commission encourages electronic filing of comments and has expert staff available to assist you at (202) 502-8258 or FercOnlineSupport@ferc.gov. Please carefully follow these instructions so that your comments are properly recorded.

(1) You can file your comments electronically using the eComment feature on the Commission's website (www.ferc.gov) under the link to Documents and Filings. This is an easy method for submitting brief, text-only comments on a project;

(2) You can file your comments electronically by using the eFiling feature on the Commission's website (www.ferc.gov) under the link to Documents and Filings. With eFiling, you can provide comments in a variety of formats by attaching them as a file with your submission. New eFiling users must first create an account by clicking on eRegister. If you are filing a comment on a particular project, please select “Comment on a Filing” as the filing type; or

(3) You can file a paper copy of your comments by mailing them to the following address. Be sure to reference the project docket number (CP18-39-000 and CP18-40-000 with your submission: Kimberly D. Bose, Secretary, Federal Energy Regulatory Commission, 888 First Street NE, Room 1A, Washington, DC 20426.

Summary of the Proposed Project

The Project would consist of abandonment by sale approximately 268 miles of pipeline facilities and abandon in-place another approximately 220 miles of pipeline facilities, totaling approximately 488 miles of existing mainline natural gas pipeline located between the Essex Meter Facility with Pacific Gas & Electric (PG&E) in San Bernardino County, California and extending northeast to the Milagro Plant in San Juan County, New Mexico. Specifically Questar proposes to:

• Abandon in place the following:

—About 220 miles of 16-inch diameter pipeline extending northeast from the current Questar Essex metering and regulating (M&R) Facility with PG&E in San Bernardino County, California to its Grey Mountain main line block valve in Coconino County, Arizona.

—Mohave Valley Compressor Station in Mohave County, Arizona;

—two delivery interconnects and associated M&R facilities, and all other appurtenant facilities, as necessary; and

—affiliated facilities in San Bernardino County, California; Mohave, Yavapai, Coconino and Apache Counties, Arizona; and San Yuan, Utah.

Abandon by sale to NTUA approximately 268 miles of its interstate pipeline, three compressor stations, and related facilities. Specifically, Questar proposes to:

• Abandon by sale the following:

—approximately 41.3 miles of 20-inch diameter pipeline extending east from Quastar's Chinde Wash Launcher and Receiver facility in San Juan County, New Mexico to its Milagro Plant Interconnect in San Juan County, New Mexico;

—about 58.9 miles of 12-inch diameter pipeline extending southeast from Questar's Red Mesa Compressor Station in San Juan County Utah to its Chinde Wash Launcher and Receiver facility in San Juan County, New Mexico;

—about 168.0 miles of 16-inch diameter pipeline extending northeast from Questar's Grey Mountain block valve in Coconino County, Arizona to its Red Mesa Compressor Station in San Juan County, Utah;

—three compressor stations including Shiprock Compressor Station in San Juan County, New Mexico; Red Mesa Compressor Station in San Juan County, Utah; Cameron Compressor Station in Coconino County, Arizona; and

—six interconnects: three receipt point interconnects and three delivery point interconnects with associated M&R facilities, and other appurtenant facilities, as necessary.

The general location of the project facilities is shown in appendix 1.¹

¹ The appendices referenced in this notice will not appear in the Federal Register. Copies of appendices were sent to all those receiving this notice in the mail and are available at www.ferc.gov using the link called eLibrary or from the Commission's Public Reference Room, 888 First Street NE, Washington, DC 20426, or call (202) 502-8371. For instructions on connecting to eLibrary, refer to the last page of this notice.

Land Requirements for Construction

There is no construction involved in this project. About 27.25 acres of land would be disturbed during removal of minor aboveground facilities and all work would be limited to existing permanent right-of way and existing access roads. All disturbed areas would be restored to preexisting conditions.

The EA Process

The National Environmental Policy Act (NEPA) requires the Commission to take into account the environmental impacts that could result from an action whenever it considers the issuance of a Certificate of Public Convenience and Necessity. NEPA also requires us ² to discover and address concerns the public may have about proposals. This process is referred to as scoping. The main goal of the scoping process is to focus the analysis in EA. We will consider all filed comments during the preparation of the EA.

² We, us, and our refer to the environmental staff of the Commission's Office of Energy Projects.

In the EA we will discuss impacts that could occur as a result of the facilities to be abandoned in place and removal of minor facilities proposed under these general headings:

• Geology and soils;

• land use;

• water resources, fisheries, and wetlands;

• cultural resources;

• vegetation and wildlife;

• air quality and noise;

• endangered and threatened species;

• public safety; and

• cumulative impacts.

We will also evaluate reasonable alternatives to the proposed project or portions of the project and make recommendations on how to lessen or avoid impacts on the various resource areas.

The EA will present our independent analysis of the issues. The EA will be available in the public record through eLibrary. Depending on the comments received during the scoping process, we may also publish and distribute the EA to the public for an allotted comment period. We will consider all comments on the EA before making our recommendations to the Commission. To ensure we have the opportunity to consider and address your comments, please carefully follow the instructions in the Public Participation section, beginning on page 2.

With this notice, we are asking agencies with jurisdiction by law and/or special expertise with respect to the environmental issues of this project to formally cooperate with us in the preparation of the EA.³ Agencies that would like to request cooperating agency status should follow the instructions for filing comments provided under the Public Participation section of this notice. Currently, no agency has expressed intention to participate as a cooperating agency in the preparation of the EA to satisfy its NEPA responsibilities related to this project.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the applicable State Historic Preservation Office(s) (SHPO), and to solicit their views and those of other government agencies, interested Indian tribes, and the public on the project's potential effects on historic properties.⁴ We will define the project-specific Area of Potential Effects (APE) in consultation with the SHPO(s) as the project develops. On natural gas facility projects, the APE at a minimum encompasses all areas subject to ground disturbance (examples include construction right-of-way, contractor/pipe storage yards, compressor stations, and access roads). Our EA for this project will document our findings on the impacts on historic properties and summarize the status of consultations under section 106.

⁴ The Advisory Council on Historic Preservation's regulations are at Title 36, Code of Federal Regulations, Part 800. Those regulations define historic properties as any prehistoric or historic district, site, building, structure, or object included in or eligible for inclusion in the National Register of Historic Places.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the proposed project.

If we publish and distribute the EA, copies/Copies of the EA will be sent to the environmental mailing list for public review and comment. If you would prefer to receive a paper copy of the document instead of the CD version or would like to remove your name from the mailing list, please return the attached Information Request (appendix 2).

Becoming an Intervenor

In addition to involvement in the EA scoping process, you may want to become an intervenor which is an official party to the Commission's proceeding. Intervenors play a more formal role in the process and are able to file briefs, appear at hearings, and be heard by the courts if they choose to appeal the Commission's final ruling. An intervenor formally participates in the proceeding by filing a request to intervene. Instructions for becoming an intervenor are in the “Document-less Intervention Guide” under the “e-filing” link on the Commission's website. Motions to intervene are more fully described at http://www.ferc.gov/resources/guides/how-to/intervene.asp.

Additional Information

Additional information about the project is available from the Commission's Office of External Affairs, at (866) 208-FERC, or on the FERC website at www.ferc.gov using the eLibrary link. Click on the eLibrary link, click on General Search and enter the docket number, excluding the last three digits in the Docket Number field (i.e., CP18-39 or CP18-40). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public sessions or site visits will be posted on the Commission's calendar located at www.ferc.gov/EventCalendar/EventsList.aspx along with other related information.

Dated: February 8, 2018.
Kimberly D. Bose,
Secretary.

[FR Doc. 2018-03005 Filed 2-13-18; 8:45 am]

BILLING CODE 6717-01-P